FEDERAL MARITIME COMMISSION

Ocean Transportation Intermediary License Reissuances

The Commission gives notice that the following Ocean Transportation Intermediary licenses have been reissued pursuant to section 19 of the Shipping Act of 1984 (46 U.S.C. 40101).

License No.: 020911N.

Name: Cargois Inc. dba SV Logis Inc.

Address: 10700 Seymour Avenue, Franklin Park, IL 60131.

Date Reissued: October 29, 2013.

License No.: 023291N.

Name: BK Logistics Corp.

Address: 19500 S. Rancho Way, Suite 103, Rancho Dominguez, CA 90220.

Date Reissued: May 7, 2014.

Sandra L. Kusumoto,
Director, Bureau of Certification and Licensing.

[FR Doc. 2014-13216 Filed 6-5-14; 8:45 am]

BILLING CODE 6730-01-P